SURFACE TRANSPORTATION BOARD

[Docket No. FD 36891]

Northern Lines Railway, LLC—Amended Lease and Operation Exemption Containing Interchange Commitment—BNSF Railway Company

Northern Lines Railway, LLC (NLR), a Class III railroad, has filed a verified notice of exemption pursuant to 49 CFR 1150.41 to continue to lease from BNSF Railway Company (BNSF) and operate approximately 14.13 miles of rail line in Stearns, Sherburne, and Benton Counties, Minn. (the Line). The Line extends (a) from the 33rd Avenue North crossing, approximately milepost 76.03, in St. Cloud, Minn., exclusive of the actual crossing, approximately one-half mile west of the St. Cloud Yard, to milepost 80.66 in St. Joseph, Minn.; and (b) from Rice Junction in St. Cloud, Minn., approximately milepost 0.0 of the Cold Spring line to approximately milepost 9.16 at Rockville, Minn.

NLR states that it has leased the Line from BNSF since 2004.¹ See N. Lines Ry.—Lease & Operation Exemption—Burlington N. & Santa Fe Ry., FD 34627 (STB served Jan. 6, 2005); see also See N. Lines Ry.—Lease & Operation Exemption—Burlington N. & Santa Fe Ry., FD 34627 (STB served June 3, 2005) (clarifying incidental trackage rights). According to NLR, the original lease agreement “has been amended from time to time” since 2004.² (Notice 4.) NLR now seeks authority for a new amendment, which “modifies various provisions of the lease, including extending its term.” (Id. at 5.)

¹ NLR notes that the Board's original decision authorized NLR to lease and operate approximately 22.4 miles of line from BNSF, but NLR received authority to discontinue service over various portions of the original line in later decisions. See N. Lines Ry.—Discont. of Serv. Exemption—in Stearns Cnty., Minn., AB 1011X (STB served June 6, 2007); N. Lines Ry.—Discont. of Serv. Exemption—in Stearns Cnty., Minn., AB 1011 (Sub-No. 1X) (STB served May 20, 2011); N. Lines Ry.—Discont. of Serv. Exemption—in Stearns Cnty., Minn., AB 1011 (Sub-No. 2X) (STB served Mar. 4, 2016); N. Lines Ry.—Discont. of Serv. Exemption—in Stearns Cnty., Minn., AB 1011 (Sub-No. 3X) (STB served Sept. 27, 2016).

² NLR states that it did not seek authority from the Board for the previous amendments because it “was unclear at the time” of their execution that they required Board authority. (Notice 4 n.5.) The class exemption invoked by NLR does not provide for retroactive effectiveness. See San Pedro R.R.—Lease & Operation Exemption—Union Pac. R.R., FD 35968, slip op. at 1 n.1 (STB served Nov. 6, 2015).

According to the verified notice, the lease contains an existing interchange commitment. NLR has provided additional information regarding the interchange commitment, as required by 49 CFR 1150.43(h).³

³ Accompanying the verified notice, and as supplemented in two confidential submissions on December 9 and 23, 2025, NLR submitted under seal a copy of the lease agreement as amended. See 49 CFR 1150.43(h)(1) (providing that certain information related to interchange commitments, such as copies of agreements, will be kept confidential without an accompanying motion for a protective order). Because submission of the amended lease was not complete until the December 23, 2025 supplement, that is deemed the filed date of the verified notice.

NLR certifies that its projected annual revenues as a result of this transaction will not exceed $5 million annually and will not result the creation of a Class II or Class I carrier.

The transaction may be consummated on or after January 22, 2026, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than January 15, 2026 (at least seven days before the exemption becomes effective).

All pleadings, referring to Docket No. FD 36891, must be filed with the Surface Transportation Board either via e-filing on the Board's website or in writing addressed to 395 E Street SW, Washington, DC 20423-0001. In addition, a copy of each pleading must be served on NLR's representative, Rose-Michele Nardi, Mullins Law Group PLLC, 2001 L Street NW, Suite 720, Washington, DC 20036.

According to NLR, this action is categorically excluded from environmental review under 49 CFR 1105.6(c) and from historic preservation reporting requirements under 49 CFR 1105.8(b).

Board decisions and notices are available at www.stb.gov.

Decided: January 6, 2026.
By the Board, Anika S. Cooper, Chief Counsel, Office of Chief Counsel.
Jeffrey Herzig,
Clearance Clerk.

[FR Doc. 2026-00169 Filed 1-7-26; 8:45 am]

BILLING CODE 4915-01-P